DEPARTMENT OF COMMERCE

National Oceanic and Atmospheric Administration

RIN 0648-XA932

Mid-Atlantic Fishery Management Council (MAFMC); Public Meeting

AGENCY: National Marine Fisheries Service (NMFS), National Oceanic and Atmospheric Administration (NOAA), Commerce.

ACTION: Notice of a public meeting.

SUMMARY: The Mid-Atlantic Fishery Management Council (Council) will hold a public meeting in the form of a workshop. The workshop topic is volunteer angler data collection.

DATES: The meeting will be held on Thursday, February 2, 2012, from 8:30 a.m. until 4:30 p.m.

ADDRESSES: The meeting will be held at the Four Points Sheraton BWI Airport, 7032 Elm Road, Baltimore, MD 21240; telephone: (410) 859-3300.

Council address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: The workshop will include briefings on established volunteer data collection programs, statistical consultant presentations, and discussions of various options for volunteer angler data collections and their uses. This workshop is a product of the Marine Recreational Information Program (MRIP— http://www.countmyfish.noaa.gov) and was organized by the Council in cooperation with the National Marine Fisheries Service and the Atlantic States Marines Fisheries Commission. Workshop outcomes may include recommendations, limitations, uses, and best practices that could inform state efforts and/or feed into a pilot project proposal to be submitted to the Marine Recreational Information Program for funding in 2013. The workshop will be available via GoToMeeting and registration can be made at the following link: https://www1.gotomeeting.com/register/409337168. A public comment period will take comments from those at the meeting and also via webinar if feasible.

Special Accommodations:

The meeting is physically accessible to people with disabilities. Requests for sign language interpretation or other auxiliary aids should be directed to M. Jan Saunders at the Mid-Atlantic Council Office, (302) 526-5251, at least 5 days prior to the meeting date.

Dated: January 10, 2012.
Tracey L. Thompson,
Acting Director, Office of Sustainable Fisheries, National Marine Fisheries Service.

[FR Doc. 2012-589 Filed 1-12-12; 8:45 am]

BILLING CODE 3510-22-P